DEPARTMENT OF TRANSPORTATION

Federal Aviation Administration

14 CFR Part 39

[Docket No. FAA-2005-23213; Directorate Identifier 2005-NM-192-AD]

RIN 2120-AA64

Airworthiness Directives; Boeing Model 757 Series Airplanes

AGENCY: Federal Aviation Administration (FAA), Department of Transportation (DOT).

ACTION: Notice of proposed rulemaking (NPRM).

SUMMARY: The FAA proposes to supersede an existing airworthiness directive (AD) that applies to certain Boeing Model 757 series airplanes. The existing AD currently requires revising the Airworthiness Limitations Section of the maintenance manual (757 Airworthiness Limitations Instructions (ALI)) to incorporate certain inspections and compliance times to detect fatigue cracking of principal structural elements (PSEs). This proposed AD would require incorporating a new revision to the Airworthiness Limitations section of the Instructions of Continued Airworthiness to mandate certain repetitive inspections for fatigue cracking of PSEs. This proposed AD also would add airplanes to the applicability in the existing AD. This proposed AD results from a new revision to the ALI. We are proposing this AD to ensure that fatigue cracking of various PSEs is detected and corrected; such fatigue cracking could adversely affect the structural integrity of these airplanes.

DATES: We must receive comments on this proposed AD by January 23, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for service information identified in this proposed AD.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION:

Comments Invited

We invite you to submit any relevant written data, views, or arguments regarding this proposed AD. Send your comments to an address listed in the ADDRESSES section. Include the docket number “Docket No. FAA-2005-23213; Directorate Identifier 2005-NM-192-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On October 4, 2001, we issued AD 2001-20-12, amendment 39-12460 (66 FR 52492, October 16, 2001), for certain Boeing Model 757 series airplanes. That AD requires revising the Airworthiness Limitations Section of the maintenance manual (757 Airworthiness Limitations Instructions (ALI)) to incorporate certain inspections and compliance times to detect fatigue cracking of principal structural elements (PSEs). That AD resulted from analysis of data that identified specific initial inspection thresholds and repetitive inspection intervals for certain PSEs to be added to the ALI. We issued that AD to ensure that fatigue cracking of various PSEs is detected and corrected; such fatigue cracking could adversely affect the structural integrity of these airplanes.

Actions Since Existing AD Was Issued

Since we issued AD 2001-20-12, a new revision to the ALI has been issued which mandates certain inspections to meet the damage tolerance requirements of 14 CFR 25.571.

Relevant Service Information

We have reviewed Section 9, “Airworthiness Limitations and Certification Maintenance Requirements” of Boeing 757 Maintenance Planning Data (MPD) Document D622N001-9, Revision “June 2005.” That document is the ALI of the maintenance manual to which this proposed AD refers. That document describes specific initial inspection thresholds and repetitive inspection intervals for certain PSEs (identified as structural significant items (SSI) in the ALI). That document explicitly identifies, for the first time, all of the PSEs that are to be inspected in accordance with the requirements of the ALI. Accomplishing the actions specified in the ALI is intended to adequately address the unsafe condition.

FAA's Determination and Requirements of the Proposed AD

We have evaluated all pertinent information and identified an unsafe condition that is likely to develop on other airplanes of the same type design. For this reason, we are proposing this AD, which would supersede AD 2001-20-12 and would retain the requirements of the existing AD. This proposed AD would also require accomplishing the actions specified in the service information described previously. This proposed AD also would add airplanes to the applicability in the existing AD.

Explanation of Change Made to This Proposed AD

We have revised the “Alternative Methods of Compliance (AMOCs)” paragraph in this proposed AD to clarify the delegation authority for Authorized Representatives for the Boeing Commercial Airplanes Delegation Option Authorization.

Change to Existing AD

This proposed AD would retain certain requirements of AD 2001-20-12. Since AD 2001-20-12 was issued, the AD format has been revised, and the paragraphs have been rearranged. As a result, the corresponding paragraph identifiers have changed in this proposed AD, as listed in the following table:

Revised Paragraph Identifiers
Requirement in AD 2001-20-12 | Corresponding requirement in this proposed AD
Paragraph (a) | Paragraph (f).
Paragraph (c) | Paragraph (g).

Costs of Compliance

There are about 1,038 airplanes of the affected design in the worldwide fleet. This proposed AD would affect about 673 airplanes of U.S. registry.

The actions that are required by AD 2001-20-12 and retained in this proposed AD take about 1 work hour per airplane, at an average labor rate of $65 per work hour. Based on these figures, the estimated cost of the currently required actions is $65 per airplane.

The new proposed actions would take about 1 work hour per airplane, at an average labor rate of $65 per work hour. Based on these figures, the estimated cost of the new actions specified in this proposed AD for U.S. operators is $43,745, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12460 (66 FR 52492, October 16, 2001) and adding the following new airworthiness directive (AD):

Boeing: Docket No. FAA-2005-23213; Directorate Identifier 2005-NM-192-AD.

Comments Due Date

(a) The FAA must receive comments on this AD action by January 23, 2006.

Affected ADs

(b) This AD supersedes AD 2001-20-12.

Applicability

(c) This AD applies to all Boeing Model 757-200, -200PF, and -300 series airplanes, certificated in any category.

Note 1: This AD requires revisions to certain operator maintenance documents to incorporate new inspections for fatigue cracking of principal structural elements (PSEs). Compliance with these inspections is required by 14 CFR 91.403(c). For airplanes that have been previously modified, altered, or repaired in the areas addressed by these inspections, the operator may not be able to incorporate the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25-1529.

Unsafe Condition

(d) This AD results from a new revision to the Airworthiness Limitations Section of the maintenance manual (757 Airworthiness Limitations Instructions (ALI)). We are issuing this AD to ensure that fatigue cracking of various PSEs is detected and corrected; such fatigue cracking could adversely affect the structural integrity of these airplanes.

Compliance

(e) You are responsible for having the actions required by this AD performed within the compliance times specified, unless the actions have already been done.

Requirements of AD 2001-20-12

Revision of Airworthiness Limitations and Certification Maintenance Requirements

(f) For airplanes affected by or subject to the requirements of AD 2001-20-12: Within 3 years after November 20, 2001 (the effective date of AD 2001-20-12), revise Section 9 of the Boeing 757 Maintenance Planning Data (MPD) Document entitled “Airworthiness Limitations and Certification Maintenance Requirements (CMRs)” to incorporate Subsection B. of Boeing Document D622N001-9, Revision “May 1997,” or Revision “November 1998.” Accomplishing the requirements in paragraph (h) of this AD ends the requirements in this paragraph.

Note 2: For the purposes of this AD, the terms Principal Structural Elements (PSEs) as used in this AD, and Structural Significant Items (SSIs) as used in Section 9 of Boeing 757 MPD Document, are considered to be interchangeable.

No Alternative Inspections/Inspection Intervals

(g) Except as provided in paragraph (j) of this AD: After the actions required by paragraph (f) of this AD have been accomplished, no alternative inspections or inspection intervals shall be approved for the PSEs contained in Boeing Document D622N001-9, Revision “May 1997” or “November 1998.”

New Actions Required by This AD

(h) For all airplanes: Within 36 months after the effective date of this AD, revise Section 9, “Airworthiness Limitations and CMRs” of the Boeing 757 MPD to incorporate Subsection B. of Boeing Document D622N001-9, Revision “June 2005.” Accomplishing the requirements in this paragraph ends the requirements in paragraph (f) of this AD.

No Alternative Inspections/Inspection Intervals

(i) Except as provided in paragraph (j) of this AD: After the actions required by paragraph (h) of this AD have been accomplished, no alternative inspections or inspection intervals shall be approved for the PSEs contained in Boeing 757 MPD Document D622N001-9, Revision “June 2005.”

Alternative Methods of Compliance (AMOCs)

(j)(1) The Manager, Seattle Aircraft Certification Office (ACO), FAA, has the authority to approve AMOCs for this AD, if requested in accordance with the procedures found in 14 CFR 39.19.

(2) AMOCs approved previously in accordance with AD 2001-20-12, are approved as AMOCs for the corresponding provisions of this AD.

(3) Before using any AMOC approved in accordance with § 39.19 on any airplane to which the AMOC applies, notify the appropriate principal inspector in the FAA Flight Standards Certificate Holding District Office.

(4) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane.

Issued in Renton, Washington, on November 30, 2005.
Ali Bahrami,
Manager, Transport Airplane Directorate, Aircraft Certification Service.

[FR Doc. 05-23777 Filed 12-7-05; 8:45 am]

BILLING CODE 4910-13-P